DEPARTMENT OF THE INTERIOR

Bureau of Land Management

[LLNVS01000 L58530000 EU0000; 09-08807; TAS: 14X5232]

Notice of Availability of Draft Supplemental Environmental Impact Statement for the Upper Las Vegas Wash Conservation Transfer Area, Las Vegas, NV

AGENCY: Bureau of Land Management, Interior.

ACTION: Notice of Availability.

SUMMARY: In accordance with the National Environmental Policy Act (NEPA) of 1969, as amended, the Bureau of Land Management (BLM) has prepared a Draft Supplemental Environmental Impact Statement (EIS) for establishing a final boundary for the Upper Las Vegas Wash Conservation Transfer Area, Las Vegas, Nevada, and by this Notice is announcing the opening of the comment period.

DATES: To ensure comments will be considered, the BLM must receive written comments on the Upper Las Vegas Wash Conservation Transfer Area Draft Supplemental EIS within 60 days following the date the Environmental Protection Agency publishes its Notice of Availability in the Federal Register. The BLM will announce future meetings or hearings and any other public involvement activities at least 15 days in advance through public notices, media releases, and/or mailings.

ADDRESSES: You may submit comments related to the Upper Las Vegas Wash Conservation Transfer Area by any of the following methods:

• Web site: http://www.blm.gov/nv/st/en/fo/lvfo.html.

• E-mail: NV_SNDO_Planning@blm.gov.

• Fax: 702-515-5023.

• Mail: Bob Ross, Field Manager, BLM Las Vegas Field Office, 4701 North Torrey Pines Drive, Las Vegas, Nevada 89130-2301.

Copies of the Draft Supplemental EIS for the Upper Las Vegas Wash Conservation Transfer Area are available in the Las Vegas Field Office at the above address.

FOR FURTHER INFORMATION CONTACT: For further information contact Gayle Marrs-Smith, telephone (702) 515-5156 or e-mail Gayle_Marrs-Smith@blm.gov.

SUPPLEMENTARY INFORMATION: The Draft Supplemental EIS describes and analyzes possible boundary adjustments to the Upper Las Vegas Wash Conservation Transfer Area (CTA) referenced in the 2004 Final Las Vegas Valley Disposal Boundary Environmental Impact Statement (EIS) and Record of Decision. Because of the significance of paleontological, botanical, hydrological, and cultural resources present within the CTA study area and the need for additional public input, the BLM is preparing a Supplemental EIS. The BLM proposes to establish a final boundary for the CTA. This decision was not made in the 2004 Record of Decision. The CTA study area is located in the northern portion of the Las Vegas Valley. A defined final boundary is needed to ensure protection of sensitive resources, including fossils, cultural resources, the natural functioning of the wash, and endemic plants on public lands available for disposal within the CTA study area, in accordance with applicable laws.

Six alternatives for boundaries are analyzed, ranging from approximately 13,000 acres to less than 1,500 acres. Alternative A, at 12,953 acres, includes the fossil formation, sensitive cultural and plant resources, active wash, the adjacent alluvial fan, and a one mile resource protection zone around northern and eastern boundaries of the Las Vegas Paiute reservation. Alternative B, at 11,008 acres, includes the fossil formation, sensitive cultural and plant resources, active wash, and the adjacent alluvial fan. Alternative B is the BLM's Preferred Alternative. Alternative C, at 6,362 acres, includes the fossil formation, sensitive cultural and plant resources, active wash, and a portion of the adjacent alluvial fan. Alternative D, at 5,301 acres, includes most of the fossil formation, the sensitive cultural and rare plant resources, and the active wash. Alternative E, at 3,314 acres, includes some of the fossil formation, the sensitive cultural and rare plant resources, and part of the active wash. The No Action alternative, at 1,448 acres, includes the Tule Spring cultural site and the 300-acre Eglington Preserve. Scoping of the project occurred from June 6 to August 20, 2007, and was extended to September 4, 2007. A total of 1,183 individuals submitted comments. Comments received pertained to a variety of broad categories, including alternatives, boundaries, management, and physical/natural resources. Additional stakeholder involvement has been achieved through the BLM's newsletters that provided updates on the Supplemental EIS process.

The Draft Supplemental EIS addresses the following issues identified during scoping: NEPA process (consultation/coordination, proposal description, alternatives, and connected actions/cumulative impacts); social resources (cultural resources, visual resources, noise, land use, recreation, transportation, and socioeconomic resources); and physical/natural resources (botanical resources, water resources, paleontological resources, and geologic/soil resources).

Maps of the CTA study area and the alternatives being analyzed in the Supplemental EIS are available at the BLM Las Vegas Field Office. Please note that public comments and information submitted including names, street addresses, and e-mail addresses of persons who submit comments will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6 and 1506.10.

Angie Lara,
Associate District Manager.

[FR Doc. 2010-976 Filed 1-21-10; 8:45 am]

BILLING CODE 4310-HC-P